DEPARTMENT OF ENERGY

Federal Energy Regulatory Commission

[Docket Nos. EL08-88-000, ER08-1178-000]

California Independent System Operator Corporation; Notice of Technical Conference

October 21, 2008.

On June 27, 2008, the California Independent System Operator Corporation (CAISO) filed an amendment to its Market Redesign and Technology (MRTU) Tariff pursuant to section 205 of the Federal Power Act (FPA) and section 35.13 of the Commission's regulations.¹ In its filing, the CAISO proposed market power mitigation measures to apply to Exceptional Dispatch instructions issued in circumstances where resources could exercise local market power. The CAISO also proposed modifications to the MRTU Tariff to clarify a number of Exceptional Dispatch provisions. On October 16, 2008, under section 205 of the FPA, the Commission issued an order ² accepting and suspending the proposed revisions, subject to refund, pending the Commission's decision in a section 206 investigation. In that order, the Commission established a section 206 investigation and directed Staff to convene a technical conference to further explore the CAISO's Exceptional Dispatch mechanism and proposed mitigation plan.

¹ Docket No. ER08-1178-000.

² Cal. Indep. Sys. Operator Corp., 125 FERC ¶ 61,055 (2008).

Take notice that the Federal Energy Regulatory Commission will hold a technical conference on November 6, 2008, from 9 a.m. to 5 p.m. and November 7, 2008, 9 a.m. to 12 p.m. (Eastern Time) in the Commission Meeting Room at the Federal Energy Regulatory Commission, 888 First Street, NE., Washington, DC 20426. The conference will be open for the public to attend and advance registration is not required. The agenda for this conference will be published at a later time.

Commission conferences are accessible under section 508 of the Rehabilitation Act of 1973. For accessibility accommodations, please send an e-mail to accessibility@ferc.gov or call toll free 1-866-208-3372 (voice) or (202)-208-1659 (TTY), or send a FAX to (202)-208-2106 with the required accommodations.

For more information about this conference, please contact: Sarah McKinley, (202) 502-8368, sarah.mckinley@ferc.gov, for logistical issues, and Sarah Crawford, (202) 502-8241, sarah.crawford@ferc.gov, or Saeed Farrokhpay, (916) 294-0322, saeed.farrokhpay@ferc.gov, for technical concerns.

Kimberly D. Bose,
Secretary.

[FR Doc. E8-25621 Filed 10-27-08; 8:45 am]

BILLING CODE 6717-01-P